DEPARTMENT OF COMMERCE

National Institute for Standards and Technology

Proposed Information Collection; Comment Request; NIST Center for Neutron Research (NCNR) Information Management System Collection

AGENCY: National Institute for Standards and Technology, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 19, 2018.

ADDRESSES: Direct all written comments to Jennifer Jessup, Departmental Paperwork Clearance Officer, Department of Commerce, Room 6616, 14th and Constitution Avenue NW, Washington, DC 20230 (or via the internet at PRAcomments@doc.gov).

FOR FURTHER INFORMATION CONTACT: Requests for additional information or copies of the information collection instrument and instructions should be directed to Elizabeth Reinhart, NIST Management and Organization Office, elizabeth.reinhart@nist.gov (301) 975-8707.

SUPPLEMENTARY INFORMATION:

I. Abstract

The NIST Center for Neutron Research (NCNR) Information Management System (IMS) is a public facing, web-based application to collect, manage and report operational data related to NCNR's role as a unique national user facility which was chartered to serve the nation's scientific community by providing unique experimental apparatus for scientific studies using neutron scattering. In order to fulfill that mission, NCNR established a complex business process to fairly distribute available scientific resources to prospective external users, outlined by the following steps:

• Registration of NCNR users

• Collection of scientific experiment proposals

• Regularly scheduled peer review of said proposals

• Merit-based award of available experimental resources

• Experiment date scheduling for selected projects (instrument scheduling)

• Collection and management of data required by the NCNR site access protocol

• Managing the Health Physics training of arriving scientists

• Coordination of administrative data

• Collection of data in support of related activities such as NCNR Summer School for facility users

• Management of the research results such as collected data, and subsequent publications

• Numerous reporting functions used to evaluate and manage the NCNR activities

II. Method of Collection

Information will be collected electronically through the internet.

III. Data

OMB Control Number: 0693-XXX (New Collection).

Form Number(s): None.

Type of Review: Regular submission.

Affected Public: Scientific personnel using NCNR user facilities.

Estimated Number of Respondents: 2000.

Estimated Time per Response: 1 hour.

Estimated Total Annual Burden Hours: 2000 hours.

Estimated Total Annual Cost to Public: $0.00.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer.

[FR Doc. 2018-08269 Filed 4-19-18; 8:45 am]

BILLING CODE 3510-13-P